SECURITIES AND EXCHANGE COMMISSION

[Release No. 34-43949; File No. SR-NSCC-00-13]

Self-Regulatory Organizations; National Securities Clearing Corporation; Notice of Filing and immediate Effectiveness of a Proposed Rule Change Revising NSCC Procedures

February 9, 2001.

Pursuant to Section 19(b)(1) of the Securities Exchange Act of 1934 (“Act”),¹ notice is hereby given that on November 22, 2000, the National Securities Clearing Corporation (“NSCC”) filed with the Securities and Exchange Commission (“Commission”) and on December 15, 2000, amended the proposed rule change as described in Items I, II, and III below, which Items have been prepared by NSCC. The Commission is publishing this notice to solicit comments on the proposed rule change from interested persons.

¹ 15 U.S.C. 78s(b)(1).

I. Self-Regulatory Organization's Statement of the Terms of Substance of the Proposed Rule Change

The proposed rule change revises NSCC's Procedures to provide that locked-in trade data for fixed income securities will be reflected on Bond Contract Lists and Bond Supplemental Contract Lists.

II. Self-Regulatory Organization's Statement of the Purpose of, and Statutory Basis for, the Proposed Rule Change

In its filing with the Commission, NSCC included statements concerning the purpose of and basis for the proposed rule change and discussed any comments it received on the proposed rule change. The text of these statements may be examined at the places specified in Item IV below. NSCC has prepared summaries, set forth in sections A, B, and C below, of the most significant aspects of such statements.²

² The Commission has modified the text of the summaries prepared by DTC.

A. Self-Regulatory Organization's Statement of the Purpose of, and Statutory Basis for, the Proposed Rule Change

The purpose of the proposed rule filing is to make a technical correction to NSCC's Procedures to provide that locked-in trade data for fixed income securities, as reported by qualified special representatives (“QSRs”) ³ and service bureaus, will be reflected on Bond Contract Lists.

³ Under NSCC Rule 39, QSR members are able to submit trade data on behalf of other NSCC members. Securities Exchange Act Release No. 23792 (Nov. 12, 1986), 51 FR 41880 (Nov. 19, 1986).

NSCC Rule 39 provides that NSCC members have the ability to submit equity and fixed income trade data on a locked-in basis on behalf of others through NSCC's Special Representative/QSR input mechanism. Currently, NSCC only receives such locked-in trade data for over-the-counter (“OTC”) equity securities, and such trades are reported on T Contracts Lists and T + 1 Locked-In Contract Lists.⁴

⁴ NSCC Procedures II(B)(1) and II(C)(1)(e).

Because NSCC now expects to receive QSR locked-in data for fixed income transactions, NSCC is proposing to add subparagraph (i) to its Procedure II(D)(1). This new paragraph will state that licked-in trade data reported by QSR and service bureaus will be reflected on Bond Contract Lists, which are available on the morning of T + 1, and on Bond Supplemental Contract Lists, which are available on the morning of T + 2.

NSCC believes that the proposed rule change is consistent with the requirements of the Act and rules and regulations thereunder because it will help NSCC promote the prompt and accurate clearance and settlement of securities transactions.

B. Self-Regulatory Organization's Statement on Burden on Competition

NSCC does not believe that the proposed rule change will impact or impose a burden on competition.

C. Self-Regulatory Organization's Statement on Comments on the Proposed Rule Change Received from Members, Participants, or Others

No written comments have been solicited or received. NSCC will notify the Commission of any written comments received by NSCC.

III. Date of Effectiveness of the Proposed Rule Change and Timing for Commission Action

The foregoing rule change has become effective pursuant to Section 19(b)(3)(iii) of the Act ⁵ and Rule 19b-4(f)(4) ⁶ thereunder because the proposed rule change effects a change in an NSCC's existing service that (i) does not adversely affect the safeguarding of securities or funds in NSCC's custody or control for which NSCC is responsible and (ii) does not significantly affect the respective rights or obligations of NSCC or persons using the service. At any time within sixty days of the filing of such rule change, the Commission may summarily abrogate such rule change if it appears to the Commission hat such action is necessary or appropriate in the public interest, for the protection of investors, or otherwise in furtherance of the purposes of the Act.

⁵ 15 U.S.C. 78s(b)(3)(iii).

⁶ 17 CFR 240.19b-4(f)(4).

IV. Solicitation of Comments

Interested persons are invited to submit written data, views, and arguments concerning the foregoing, including whether the rule change is consistent with the Act. Persons making written submissions should file six copies thereof with the Secretary, Securities and Exchange Commission, 450 Fifth Street NW., Washington, DC 20549-0609. Copies of the submission, all subsequent amendments, all written statements with respect to the proposed rule change that are filed with the Commission, and all written communications relating to the proposed rule change that are filed with Commission, and all written communications relating to the proposed rule change between the Commission and any person, other than those that may be withheld from the public in accordance with provisions of 5 U.S.C. 552, will be available for inspection and copying in the Commission's Public Reference Section, 450 Fifth Street, NW., Washington, DC 20549. Copies of such filing will also be available for inspection and copying at NSCC's principal office. All submissions should refer to File No. SR-NSCC-00-13 and should be submitted by March 9, 2001.

For the Commission by the Division of Market Regulation, pursuant to delegated authority.⁷
⁷ 17 CFR 200.30-3(a)(12).
Margaret H. McFarland,
Deputy Secretary.

[FR Doc. 01-3967 Filed 2-15-01; 8:45 am]

BILLING CODE 8010-01-M